DEPARTMENT OF COMMERCE

National Oceanic and Atmospheric Administration

RIN 0648-XG498

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its American Samoa Archipelago Fishery Ecosystem Plan (FEP) Advisory Panel (AP) to discuss and make recommendations on fishery management issues in the Western Pacific Region.

DATES: The American Samoa Archipelago FEP AP will meet on Thursday, October 11, 2018, between 4:30 p.m. and 6:30 p.m. All times listed are local island times. For specific times and agendas, see SUPPLEMENTARY INFORMATION.

ADDRESSES: The American Samoa Archipelago FEP AP will meet at the Native American Samoa Advisory Council Building, Pava'ia'i Village, Tutuila, American Samoa, 96799.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the American Samoa Archipelago FEP AP Meeting

Thursday, October 11, 2018, 4:30 p.m.-6:30 p.m.

1. Welcome and Introductions

2. Report on Previous Advisory Panel Recommendations

3. Council Issues

A. Precious Corals Essential Fish Habitat Refinement Options

B. Update on Aquaculture Management

C. Specification of American Samoa Bottomfish MUS Annual Catch Limits for Fishing Year 2019

4. American Samoa FEP Community Activities

5. American Samoa FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 25, 2018.
Tracey L. Thompson,
Acting Deputy Director, Office of Sustainable Fisheries, National Marine Fisheries Service.

[FR Doc. 2018-21180 Filed 9-27-18; 8:45 am]

BILLING CODE 3510-22-P